OFFICE OF THE U.S. TRADE REPRESENTATIVE

Request for Petitions To Accelerate Tariff Elimination and Modify the Rules of Origin Under the U.S.-Chile Free Trade Agreement

AGENCY: Office of the United States Trade Representative.

ACTION: Notice of opportunity to file petitions requesting accelerated tariff elimination and changes to the rules of origin under the U.S.-Chile Free Trade Agreement (“the Agreement” or “USCFTA”).

SUMMARY: This notice solicits petitions requesting accelerated tariff elimination under the USCFTA and describes the procedures for filing petitions. This notice also solicits proposals on appropriate changes that USTR should consider for liberalizing the USCFTA's rules of origin.

DATES: Public comments are due at USTR by close of business, July 20, 2007.

ADDRESSES: Submissions by electronic mail: FR0712@ustr.eop.gov. Submissions by facsimile: Kent Shigetomi, Office of the Americas, at (202) 395-9675. USTR strongly encourages the public to submit documents electronically rather than by facsimile. See requirements for submissions below.

FOR FURTHER INFORMATION CONTACT: Kent Shigetomi, Office of the Americas, Office of the United States Trade Representative, Room 523, 600 17th Street, NW., Washington, DC 20508; telephone: (202) 395-3412; facsimile: (202) 395-9675; e-mail: FR0712@ustr.eop.gov.

SUPPLEMENTARY INFORMATION: On December 5, 2005, the U.S-Chile Free Trade Commission (“FTC” or “the Commission”), the bilateral body responsible for supervising the implementation of the USCFTA, decided to launch negotiations to accelerate the elimination of tariffs under the Agreement. Article 3.3(4) of the USCFTA provides that Parties may agree to accelerate the elimination of customs duties set out in their tariff schedules. Section 201(b) of the U.S.-Chile Free Trade Agreement Implementation Act (“the FTA Act” or “the Act”) authorizes the President to proclaim modifications in the staging of duty treatment set out in the Agreement, subject to the Act's consultation and layover requirements.

Further, on January 24, 2007, the Commission agreed to consider liberalizing the rules of origin established in the Agreement, particularly in light of more recent free trade agreements. The USCFTA requires each government to provide preferential tariff treatment to goods that meet the Agreement's origin rules. In the United States, those rules are implemented through the FTA Act. Under the Act, goods imported into the United States qualify for preferential treatment if they meet the requirements of the general USCFTA rules of origin set out in section 202 of the Act and the USCFTA product-specific rules set out in the HTS. The Agreement allows the Parties to amend the Agreement's origin rules as they deem appropriate. Section 202(o)(2) of the USCFTA Act authorizes the President to proclaim modifications to the USCFTA's product-specific origin rules set forth in the HTS, subject to the consultation and layover provisions of section 103(a) of the Act.

Additional Information

The United States and Chile have not yet decided whether to accelerate the elimination of tariffs or to make further changes to the Agreement's rules of origin and, if such changes were made, what the scope or extent of such changes should be. The United States and Chile expect to take into account several factors in considering whether to make such changes, including (1) the extent that any such changes may reduce transaction and manufacturing costs or increase trade between Chile and the United States; (2) the feasibility of devising, implementing, and monitoring new rules of origin; and (3) the level and breadth of interest that manufacturers, processors, traders, and consumers in the United States and Chile express for making particular changes. The United States and Chile expect to make only those changes that are broadly supported by stakeholders in both countries.

Requirements for Comments/Proposals

Submitters should indicate whether they have discussed their proposals with representatives of the relevant sector in Chile and, if such discussions have taken place, what the result of those discussions was. Submissions should indicate if representatives of the relevant sector in Chile do not support the proposal. USTR encourages interested parties to consider submitting proposals jointly with interested parties in Chile.

Scope and Coverage of Proposals: USTR encourages interested parties to review the broadest appropriate range of items and to submit proposals that reflect a consensus reached after such a broad-based review. A single proposal can thus include requests covering multiple tariff headings. Proposals should cover entire 8-digit tariff subheadings, and may also be submitted at the 6, 4, or 2 digit level where the intent is to cover all subsidiary duties.

Requirements for Submissions: In order to facilitate prompt processing of submissions, USTR strongly urges and prefers electronic (e-mail) submissions in response to this notice. In the event that an interested party cannot make a submission by e-mail, it should send the submission by facsimile. Facsimile submissions should not exceed 20 pages.

E-mail submissions should be single copy transmissions in English, and use the appropriate subject line, “Chile FTA Tariff Acceleration,” “Chile FTA Rules of Origin,” or both, depending on the nature of the submission. Documents should be submitted as WordPerfect (“.WPD”), MS Word (“.DOC”), or text (“.TXT”) files. Documents should not be submitted as electronic image files or contain embedded images (for example, “.JPG”, “.TIF”, “.PDF”, “.BMP”, or “.GIF”) as these files are often excessively large. Supporting documentation submitted as spreadsheets are acceptable in QuattroPro or Excel, pre-formatted for printing on 8½ x 11 inch paper. To the extent possible, an interested party should include any data attachments to the submission in the same file as the submission itself, and not as separate files. E-mail submissions should not include separate cover letters or messages in the body of the e-mail. An interested party should include information that might appear in a cover letter directly in the attached file containing the submission itself, including the identity of the submitter and the submitter's e-mail address.

Petitions will be available for public inspection by appointment with the staff of the USTR Public Reading Room, except for information granted “business confidential” status pursuant to 15 CFR 2003.6. If the submission contains business confidential information, the submitter must provide a non-confidential version of the submission that indicates where confidential information was redacted by inserting asterisks where material was deleted. In addition, the submitter must mark the confidential submission as “Business Confidential” in large, bold letters at the top and bottom of every page of the document. The submitter must clearly mark the public version that does not contain business confidential information as either “Public Version” or “Non-Confidential” in large, bold letters at the top and bottom of every page. The file name of any documents containing business confidential information attached to an e-mail transmission should begin with the characters “BC-”. The file name of the public version should begin with the characters “P-”. The “P-” or “BC-” should be followed by the name of the person or party submitting the petition. Submissions by e-mail should not include separate cover letters or messages in the message area of the e-mail; information that might appear in any cover letter should be included directly in the submission. The e-mail address for submissions is FR0712@ustr.eop.gov. USTR shall make available for review public versions of all documents relating to this review shortly after the due date by appointment in the USTR Public Reading Room, 1724 F Street, NW., Washington, DC. Availability of documents may be ascertained and appointments may be made from 9:30 a.m. to noon and 1 p.m. to 4 p.m., Monday through Friday, by calling (202) 395-6186.

Everett Eissenstat,
Assistant U.S. Trade Representative for the Americas.

[FR Doc. E7-10150 Filed 5-24-07; 8:45 am]

BILLING CODE 3190-W7-P